Title 3—

The President

Executive Order 13200 of February 11, 2001

President's Information Technology Advisory Committee, Further Amendment to Executive Order 13035, as Amended

By the authority vested in me as President by the Constitution and the laws of the United States of America, including the High-Performance Computing Act of 1991 (Public Law 102-194), as amended by the Next Generation Internet Research Act of 1998 (Public Law 105-305), and in order to extend the life of the President's Information Technology Advisory Committee so that it may continue to carry out its responsibilities, it is hereby ordered that Executive Order 13035 of February 11, 1997, as amended by Executive Orders 13092 and 13113 (“Executive Order 13035, as amended”), is further amended as follows:

Section 4(b) of Executive Order 13035, as amended, is further amended by deleting “February 11, 2001 and inserting “June 1, 2001,” in lieu thereof.

B

THE WHITE HOUSE,

February 11, 2001.

[FR Doc. 01-3883

Filed 2-13-01; 8:45 am]

Billing code 3195-01-P